DEPARTMENT OF LABOR

Employment and Training Administration

[TA-W-64,127]

Hewlett-Packard Company, Inkjet Consumer Solutions, HP Consumer Hardware Inkjet Lab, Including Leased Workers of Hightower Technology Capital, Inc., Vancouver, WA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 23, 2008, applicable to all workers of Hewlett-Packard Company, Inkjet Consumer Solutions, HP Consumer Hardware Inkjet Lab, Vancouver, Washington. The notice was published in the Federal Register on November 10, 2008 (73 FR 66676).

In response to a petition filed by a company official of Hightower Technology Capital, Inc., Vancouver, Washington, on behalf of workers providing contract design services to Hewlett-Packard at Vancouver, Washington (TA-W-64,546), the Department reviewed the certification for workers of Hewlett-Packard Company, Inkjet Consumer Solutions, HP Consumer Hardware Inkjet Lab, Vancouver, Washington (TA-W-64,127).

The review shows that workers of Hightower Technology Capital, Inc. worked on-site at Hewlett-Packard Company, Inkjet Consumer Solutions, HP Consumer Hardware Inkjet Lab, Vancouver, Washington, and are sufficiently under the control of Hewlett-Packard to be considered leased workers.

The Department is amending the certification to clarify that the certification is to cover workers and former workers of Hightower Technology Capital, Inc. at Hewlett-Packard Company, Inkjet Consumer Solutions, HP Consumer Hardware Inkjet Lab, Vancouver, Washington as well as workers and former workers of the subject firm.

The amended notice applicable to TA-W-64,127 is hereby issued as follows:

All workers of Hewlett-Packard Company, Inkjet Consumer Solutions, HP Consumer Hardware Inkjet Lab, Vancouver, Washington, including on-site leased workers of Hightower Technology Capital, Inc., who became totally or partially separated from employment on or after September 26, 2007 through October 23, 2010, are eligible to apply for adjustment assistance under Section 223 of the Trade Act of 1974, and are also eligible to apply for alternative trade adjustment assistance under Section 246 of the Trade Act of 1974.

Signed in Washington, DC, this 9th day of January 2009.
Richard Church,
Certifying Officer, Division of Trade Adjustment Assistance.

[FR Doc. E9-1489 Filed 1-23-09; 8:45 am]

BILLING CODE 4510-FN-P